DEPARTMENT OF THE TREASURY

Office of the Comptroller of the Currency

Privacy Act of 1974, as Amended

AGENCY: Office of the Comptroller of the Currency, Treasury.

ACTION: Notice of proposed new Privacy Act system of records.

SUMMARY: In accordance with the requirements of the Privacy Act of 1974, as amended, 5 U.S.C. 552a, the Office of the Comptroller of the Currency (OCC) gives notice of a proposed new system of records entitled “Treasury/CC .800—Office of Inspector General Investigations System.”

DATES: Comments must be received no later than July 1, 2015. This new system of records will be effective July 6, 2015 unless the OCC receives comments that would result in a contrary determination.

ADDRESSES: Because paper mail in the Washington, DC area and at the OCC is subject to delay, commenters are encouraged to submit comments by email, if possible. Please use the title “Notice of Proposed New Privacy Act System of Records” to facilitate the organization and distribution of the comments. You may submit comments by any of the following methods:

• Email: regs.comments@occ.treas.gov.

• Mail: Legislative and Regulatory Activities Division, Office of the Comptroller of the Currency, 400 7th Street SW., Suite 3E-218, Mail Stop 9W-11, Washington, DC 20219.

• Hand Delivery/Courier: 400 7th Street SW., Suite 3E-218, Mail Stop 9W-11, Washington, DC 20219.

• Fax: (571) 465-4326.

Instructions: You must include “OCC” as the agency name and the docket number in your comment. In general, OCC will enter all comments received into the docket without change, including any business or personal information that you provide such as name and address information, email addresses, or phone numbers. Comments received, including attachments and other supporting materials, are part of the public record and subject to public disclosure. Do not enclose any information in your comment or supporting materials that you consider confidential or inappropriate for public disclosure.

You may review comments and other related materials that pertain to this notice by appearing personally to inspect and photocopy comments at the OCC, 400 7th Street SW., Washington, DC. For security reasons, the OCC requires that visitors make an appointment to inspect comments. You may do so by calling (202) 649-6700. Upon arrival, visitors will be required to present valid government-issued photo identification and to submit to security screening in order to inspect and photocopy comments.

FOR FURTHER INFORMATION CONTACT: Kristin Merritt, Special Counsel, Administrative and Internal Law, Office of the Comptroller of the Currency, 400 7th Street SW., Washington, DC 20219. Phone: (202) 649-5585 (not a toll-free number).

SUPPLEMENTARY INFORMATION: By this notice, the OCC announces its intent to maintain a new Privacy Act system of records in its Office of Enterprise Governance and the Ombudsman.

A proposed rule exempting the proposed system of records from certain provisions of the Privacy Act pursuant to 5 U.S.C. 552a(k)(2) will be published separately in the Federal Register.

As required by 5 U.S.C. 552a(r), a report of a new system of records has been provided to the Committee on Oversight and Government Reform of the House of Representatives, the Committee on Homeland Security and Governmental Affairs of the Senate, and the Office of Management and Budget.

The system of records entitled “Treasury/CC .800—Office of Inspector General Investigations System” is published in its entirety below.

Helen Goff Foster,
Deputy Assistant Secretary for Privacy, Transparency, and Records.

Treasury/CC .800

System name:

Office of Inspector General Investigations System

System location:

OCC Headquarters, Office of Enterprise Governance and the Ombudsman, 400 7th Street SW., Washington, DC.

Categories of individuals covered by the system:

(1) Current and former OCC employees who are being investigated by the Treasury Office of the Inspector General;

(2) Current and former OCC contractors who are being investigated by the Treasury Office of the Inspector General (OIG); and

(3) Current and former directors, officers, employees, shareholders, and independent contractors of financial institutions who are being investigated by the OIG.

Categories of records in the system:

Referrals regarding potential or alleged violations of laws, rules or regulations; names of targets, complainants, managers, Enterprise Governance staff and other government employees who may be named in referral or investigative documents; documents regarding resolutions and remedial action in connection with referrals; other supporting documentation, including bank-related information, investigative documentation, and correspondence related to investigations.

Authority for maintenance of the system:

5 U.S.C. App. 3; 12 U.S.C. 1, as amended; 31 CFR 0.207.

Purposes(s):

This system of records is used by the OCC to monitor the OIG's referrals and investigations related to the OCC.

Routine uses of records maintained in the system including categories of users and the purposes of such uses:

Records in this system may be disclosed to:

(1) An OCC-regulated entity when the information is relevant to the entity's operations;

(2) Third parties to the extent necessary to obtain information that is relevant to an investigation;

(3) Appropriate governmental or self-regulatory organizations when the OCC determines that the records are relevant and necessary to the governmental or self-regulatory organization's regulation and supervision of financial service providers, including the review of the qualifications and fitness of individuals who are or propose to become responsible for the business operations of such providers;

(4) An appropriate governmental, international, tribal, self-regulatory, or professional organization if the information is relevant to a known or suspected violation of a law or licensing standard within that organization's jurisdiction;

(5) A Federal, State, local, or tribal agency, or other public authority, which has requested information relevant or necessary to hiring or retaining an employee, or issuing or continuing a contract, security clearance, license, grant, or other benefit;

(6) The Department of Justice, a court, an adjudicative body, a party in litigation, or a witness if the OCC determines that the information is relevant and necessary to a proceeding in which the OCC, any OCC employee in his or her official capacity, any OCC employee in his or her individual capacity represented by the Department of Justice or the OCC, or the United States is a party or has an interest;

(7) A congressional office when the information is relevant to an inquiry made at the request of the individual about whom the record is maintained;

(8) A contractor or agent who needs to have access to this system of records to perform an assigned activity;

(9) Third parties when mandated or authorized by statute; or

(10) Appropriate agencies, entities, and persons when: (a) The OCC suspects or has confirmed that the security or confidentiality of information in the system of records has been compromised; (b) the OCC has determined that as a result of the suspected or confirmed compromise there is a risk of harm to economic or property interests, identity theft or fraud, or harm to the security or integrity of this system or other systems or programs (whether maintained by the OCC or another agency or entity) that rely upon the compromised information; and (c) the disclosure made to such agencies, entities, and persons is reasonably necessary to assist in connection with the OCC's efforts to respond to the suspected or confirmed compromise and prevent, minimize, or remedy such harm.

Policies and practices for storing, retrieving, accessing, retaining, and disposing of records in the system:

Storage:

Paper records and electronic media.

Retrievability:

Records may be retrieved by name; social security number; OIG tracking number; the date a referral is received, transmitted or closed; another personal identifier of person about whom a referral is made; or by OCC employee name or identification number for the employee assigned to a particular matter.

Safeguards:

Paper records are maintained in locked file cabinets with access limited to those personnel whose official duties require access. Access to electronic systems is restricted to authorized personnel who are issued non-transferrable access codes and passwords.

Retention and disposal:

Records will be retained for 7 years, and the office of Enterprise Governance and the Ombudsman will destroy records older than 7 years in accordance with OCC Records Retention Schedule item 1.2c (7-year project files), and continue to do so annually.

System manager(s) and address:

Senior Deputy Comptroller for Enterprise Governance and the Ombudsman, 400 7th Street SW., Washington, DC 20219. Phone: (202) 649-5530 (not a toll-free number).

Notification procedure:

This system of records contains records that are exempt from the notification, access and contest requirements pursuant to 5 U.S.C. 552a(k)(2). Individuals seeking notification and access to any non-exempt record contained in this system of records, or seeking to contest its content, may inquire in writing in accordance with instructions appearing at 31 CFR, Part 1, subpart C, and appendix J to subpart C. Written inquiries should be addressed to Disclosure Officer, Communications Division, Office of the Comptroller of the Currency, 400 7th Street SW., Washington, DC 20219.

Identification requirements: An individual seeking notification through the mail must establish his or her identity by providing a signature and an address as well as one other identifier bearing the individual's name and signature (such as a photocopy of a driver's license or other official document). An individual seeking notification in person must establish his or her identity by providing proof in the form of a single official document bearing a photograph (such as a passport or identification badge) or two items of identification that bear both a name and a signature.

Alternatively, identity may be established by providing a notarized statement, swearing or affirming to an individual's identify, and to the fact that the individual understands the penalties provided in 5 U.S.C. 552a(i)(3) for requesting or obtaining information under false pretenses.

Additional documentation establishing identity or qualification for notification may be required such as in an instance where a legal guardian or representative seeks notification on behalf of another individual.

Record access procedures:

See “Notification Procedure” above.

Contesting records procedures:

See “Notification Procedure” above.

Record source categories:

Treasury and other Federal agency records, including referrals from the OCC to the OIG and referrals received from the OIG.

Exemptions claimed for the system:

Some of the records in this system are exempt from sections 5 U.S.C. 552a(c)(3), (d)(1)-(4), (e)(1), (e)(4)(G)-(I), and, (f) of the Privacy Act pursuant to 5 U.S.C. 552a(k)(2). See 31 CFR 1.36.

[FR Doc. 2015-13165 Filed 5-29-15; 8:45 am]

BILLING CODE 4810-33-P